NUCLEAR REGULATORY COMMISSION

Public Meeting on the Memorandum of Understanding Between the Environmental Protection Agency and the Nuclear Regulatory Commission; Consultation and Finality on Decommissioning and Decontamination of Contaminated Sites

AGENCY: Nuclear Regulatory Commission (NRC).

ACTION: Notice of meeting.

SUMMARY: NRC will host a public meeting in Rockville, Maryland. During the meeting, staff from the Environmental Protection Agency and the Nuclear Regulatory Commission will discuss the Memorandum of Understanding (MOU) Between the Environmental Protection Agency and the Nuclear Regulatory Commission titled, “Consultation and Finality on Decommissioning and Decontamination of Contaminated Sites,” and proposed plans for its implementation. The MOU can be viewed on the Internet at the following Web site: http://www.nrc.gov/reading-rm/doc-collections/news/2002/02-120.html. EPA also has additional information at the following Web site: http://www.epa.gov/superfund/resources/radiation/mou.htm.

Purpose: This meeting will provide an opportunity to discuss the MOU and next steps in implementation.

DATES: The meeting is scheduled for Tuesday November 5, 2002, from 1 pm to 4:30 pm. The meeting is open to the public.

ADDRESSES: NRC's Auditorium is at Two White Flint North, 11545 Rockville Pike, Rockville, Maryland. Visitor parking around the NRC building is not available; however, the meeting site is located adjacent to the White Flint Station on the Metro Red Line.

FOR FURTHER INFORMATION CONTACT: Patricia A. Santiago, telephone (301) 415-7269, e-mail: pas2@nrc.gov, Eric Pogue, telephone (301) 415-6064, e-mail: erp@nrc.gov, Office of Nuclear Material Safety and Safeguards, U.S. Nuclear Regulatory Commission, Washington, DC 20555, or Stuart Walker, Office of Emergency and Remedial, U.S. Environmental Protection Agency, Washington, DC 20555, telephone (703) 603-8748, e-mail: walker.stuart@epa.gov.

Dated at Rockville, Maryland, this 17th day of October, 2002.
For the Nuclear Regulatory Commission.
Martin J. Virgilio,
Director, Office of Nuclear Material Safety and Safeguards.

Agenda

12:30-1:00 Meet and Greet

1:00-1:15 Welcome and Opening Remarks

1:15-2:15 Overview of MOU

2:15-2:45 Public Questions

2:45-3:00 NRC Next Steps/Guidance

3:00-3:15 EPA Next Steps/Guidance

3:15-3:30 Closing Remarks

3:30-3:45 Public Questions

3:45-4:30 Staff Available for additional discussion

[FR Doc. 02-27124 Filed 10-23-02; 8:45 am]

BILLING CODE 7590-01-P